DEPARTMENT OF HOMELAND SECURITY

Coast Guard

33 CFR Part 117

[Docket No. USCG-2009-0073]

RIN 1625-AA09

Drawbridge Operation Regulation; Perquimans River, Hertford, NC

AGENCY: Coast Guard, DHS.

ACTION: Notice of proposed rulemaking; withdrawal.

SUMMARY: The Coast Guard is withdrawing its notice of proposed rulemaking concerning the proposed change to the regulations that governed the operation of the US17 Bridge, at mile 12.0, across Perquimans River at Hertford, NC. The requested change would have allowed the bridge to operate without a tender during specific times of the year on an advance notice basis.

DATES: The notice of proposed rulemaking is withdrawn on June 1, 2010.

ADDRESSES: The docket for this withdrawn rulemaking is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-0073 in the “Keyword” box and then clicking “Search”.

FOR FURTHER INFORMATION CONTACT: If you have questions about this notice, call or e-mail Sandra S. Elliott, Fifth Coast Guard District; telephone (757) 398-6557, e-mail Sandra.s.elliott@uscg.mil. If you have questions on viewing material in the docket call Renee V. Wright, Program Manager, Docket Operations, telephone 202-366-9826.

SUPPLEMENTARY INFORMATION:

Background

On March 13, 2009, we published a notice of proposed rulemaking (NPRM) entitled “Drawbridge Operation Regulations; Perquimans River, Hertford, NC” in the Federal Register (74 FR 10850-10853). The rulemaking would have allowed the drawbridge to operate on an advance notice basis during specific times of the year. Officials from the Town of Hertford commented that not maintaining a tender during peak boating times would have an adverse impact on public safety.

Withdrawal

The North Carolina Department of Transportation (NCDOT), responsible for the operation of the US17 Bridge, had requested advance notification of vessel openings during specific times of the year due to the infrequency of requests for vessel openings of the drawbridge.

The Coast Guard received several comments opposing changes to the proposed rulemaking. We conducted a lengthy and thorough investigation that included a site visit and a meeting with officials of the Town of Hertford. The Coast Guard met with the Mayor, Town Manager, Town Planner and a representative from NCDOT. We also met separately with a marina owner and the Chief of the Water Rescue team.

Our investigation along with the majority of the comments revealed that the rulemaking could impose critical service delays to commercial and recreational boaters and impede the ability of rescue boats to arrive promptly on scene. The withdrawal is based on the reason that this change would not improve the schedule for roadway and waterway users.

Authority

This action is taken under the authority of 33 U.S.C. 499; 33 CFR 1.05-1; Department of Homeland Security Delegation No. 0170.1.

Dated: May 11, 2010.
Wayne E. Justice,
Real Admiral, U.S. Coast Guard, Commander, Fifth Coast Guard District.

[FR Doc. 2010-12980 Filed 5-28-10; 8:45 am]

BILLING CODE 9110-04-P